DEPARTMENT OF COMMERCE

International Trade Administration

[A-570-028]

Hydrofluorocarbon Blends From the People's Republic of China: Preliminary Results of Antidumping Duty Administrative Review and Preliminary Determination of No Shipments; 2020-2021

AGENCY: Enforcement and Compliance, International Trade Administration, Department of Commerce

SUMMARY: The U.S. Department of Commerce (Commerce) is conducting an administrative review of the antidumping duty (AD) order on hydrofluorocarbon (HFC) blends from the People's Republic of China (China). The period of review (POR) is August 1, 2020, through July 31, 2021. We preliminarily find that Huantai Dongyue International Trade Co., Ltd. (Huantai Dongyue), Shandong Dongyue Chemical Co., Ltd. (Shandong Dongyue), Zhejiang Yonghe Refrigerant Co., Ltd. (Zhejiang Yonghe), and Zhejiang Sanmei Chemical Ind. Co., Ltd. (Sanmei) had no shipments during the POR. Commerce also preliminarily determines that the remaining companies subject to this administrative review (collectively, the non-responsive parties) are part of the China-wide entity. Interested parties are invited to comment on these preliminary results.

DATES: Applicable September 2, 2022.

FOR FURTHER INFORMATION CONTACT: Steven Seifert, AD/CVD Operations, Office II, Enforcement and Compliance, International Trade Administration, U.S. Department of Commerce, 1401 Constitution Avenue NW, Washington, DC 20230; telephone: (202) 482-3350.

SUPPLEMENTARY INFORMATION:

Background

On August 19, 2016, Commerce published in the Federal Register an AD order on HFC blends from China.¹ On August 2, 2021, Commerce published a notice of opportunity to request an administrative review of the Order for the POR.² On August 31, 2021, Commerce received timely requests to conduct an administrative review of the Order, in accordance with section 751(a)(1) of the Tariff Act of 1930, as amended (the Act), from the American HFC Coalition (petitioner) and Sanmei.³ Based on these requests, Commerce initiated an administrative review of the Order with respect to 43 companies on October 7, 2021.⁴ On October 14, 2021, consistent with the Initiation Notice, Commerce released U.S. Customs and Border Protection (CBP) data for purposes of respondent selection and provided interested parties an opportunity to comment on these data by October 21, 2021.⁵ Commerce received comments on the CBP Data from the petitioner and Sanmei.⁶ On October 28, 2021, three companies submitted certifications of no shipments.⁷ The deadline for companies to submit an separate rate application (SRA) or separate rate certification (SRC) was November 8, 2021.⁸ On November 8, 2021, Sanmei submitted an SRA.⁹

¹ See Hydrofluorocarbon Blends from the People's Republic of China: Antidumping Duty Order, 81 FR 55436 (August 19, 2016) (Order).

² See Antidumping or Countervailing Duty Order, Finding, or Suspended Investigation; Opportunity to Request Administrative Review, 86 FR 41436 (August 2, 2021).

³ See Petitioner's Letter, “Request for Administrative Review of Antidumping Duty Order,” dated August 31, 2021; and Sanmei's Letter, “Request for Administrative Review,” dated August 31, 2021.

⁴ See Initiation of Antidumping and Countervailing Duty Administrative Reviews, 86 FR 55815, 55816 (October 7, 2021) (Initiation Notice).

⁵ Id., 86 FR at 55811; see also Memorandum, “Release of U.S. Customs and Border Protection Entry Data,” dated October 14, 2021 (CBP Data).

⁶ See Petitioner's Letter, “Comments on CBP Data Release,” dated October 21, 2021; see also Sanmei's Letter, “Submission of Zhejiang Sanmei's Comments on CBP Data,” dated October 21, 2021.

⁷ See Huantai Dongyue's Letter, “Submission of Statement of No Shipment,” dated October 28, 2021; Shandong Dongyue's Letter, “Submission of Statement of No Shipment,” dated October 28, 2021; and Zhejiang Yonghe's Letter, “Submission of Statement of No Shipment,” dated October 28, 2021 (collectively, No-Shipment Statements).

⁸ SRAs and SRCs were due thirty days from the publication date of the Initiation Notice. In this administrative review the deadline was November 8, 2021. See Initiation Notice, 86 FR at 55812.

⁹ See Sanmei's Letter, “Separate Rate Application,” dated November 8, 2021.

On February 7, 2022, we selected Sanmei as a mandatory respondent in this review and issued the AD questionnaire to it.¹⁰ On April 25, 2022, Commerce extended the deadline for the preliminary results of this administrative review until June 24, 2022.¹¹ On June 3, 2022, Commerce again extended the deadline for the preliminary results of this administrative review until August 31, 2022.¹²

¹⁰ See Memorandum, “Selection of Respondents for Individual Examination,” dated February 7, 2022; and Commerce's Letter, “Request for Information,” dated February 7, 2022.

¹¹ See Memorandum, “Extension of Deadline for Preliminary Results of Antidumping Duty Administrative Review,” dated April 25, 2022.

¹² See Memorandum, “Extension of Deadline for Preliminary Results of Antidumping Duty Administrative Review,” dated June 3, 2022.

Scope of the Order

The products subject to the Order are HFC blends. HFC blends covered by the scope are R-404A, a zeotropic mixture consisting of 52 percent 1,1,1-Trifluoroethane, 44 percent Pentafluoroethane, and 4 percent 1,1,1,2-Tetrafluoroethane; R-407A, a zeotropic mixture of 20 percent Difluoromethane, 40 percent Pentafluoroethane, and 40 percent 1,1,1,2-Tetrafluoroethane; R-407C, a zeotropic mixture of 23 percent Difluoromethane, 25 percent Pentafluoroethane, and 52 percent 1,1,1,2-Tetrafluoroethane; R-410A, a zeotropic mixture of 50 percent Difluoromethane and 50 percent Pentafluoroethane; and R-507A, an azeotropic mixture of 50 percent Pentafluoroethane and 50 percent 1,1,1-Trifluoroethane also known as R-507. The foregoing percentages are nominal percentages by weight. Actual percentages of single component refrigerants by weight may vary by plus or minus two percent points from the nominal percentage identified above.¹³

¹³ R-404A is sold under various trade names, including Forane® 404A, Genetron® 404A, Solkane® 404A, Klea® 404A, and Suva®404A. R-407A is sold under various trade names, including Forane® 407A, Solkane® 407A, Klea®407A, and Suva®407A. R-407C is sold under various trade names, including Forane® 407C, Genetron® 407C, Solkane® 407C, Klea® 407C and Suva® 407C. R-410A is sold under various trade names, including EcoFluor R410, Forane® 410A, Genetron® R410A and AZ-20, Solkane® 410A, Klea® 410A, Suva® 410A, and Puron®. R-507A is sold under various trade names, including Forane® 507, Solkane® 507, Klea®507, Genetron®AZ-50, and Suva®507. R-32 is sold under various trade names, including Solkane®32, Forane®32, and Klea®32. R-125 is sold under various trade names, including Solkane®125, Klea®125, Genetron®125, and Forane®125. R-143a is sold under various trade names, including Solkane®143a, Genetron®143a, and Forane®125.

Any blend that includes an HFC component other than R-32, R-125, R-143a, or R-134a is excluded from the scope of the Order.

Excluded from the Order are blends of refrigerant chemicals that include products other than HFCs, such as blends including chlorofluorocarbons (CFCs), hydrochlorofluorocarbons (HCFCs), hydrocarbons (HCs), or hydrofluoroolefins (HFOs).

Also excluded from the Order are patented HFC blends, including, but not limited to, ISCEON® blends, including MO99TM (R-438A), MO79 (R-422A), MO59 (R-417A), MO49PlusTM (R-437A) and MO29TM (R-4 22D), Genetron® PerformaxTM LT (R-407F), Choice® R-421A, and Choice® R-421B.

HFC blends covered by the scope of the Order are currently classified in the Harmonized Tariff Schedule of the United States (HTSUS) at subheadings 3824.78.0020 and 3824.78.0050. Although the HTSUS subheadings are provided for convenience and customs purposes, the written description of the scope is dispositive.¹⁴

¹⁴ See the Order. Certain merchandise has been the subject of affirmative anti-circumvention determinations by Commerce, pursuant to section 781 of the Tariff Act of 1930, as amended (the Act). As a result, the circumventing merchandise is included in the scope of the Order. See Hydrofluorocarbon Blends from the People's Republic of China: Final Negative Scope Ruling on Gujarat Fluorochemicals Ltd.'s R-410A Blend; Affirmative Final Determination of Circumvention of the Antidumping Duty Order by Indian Blends Containing Chinese Components, 85 FR 61930 (October 1, 2020); Hydrofluorocarbon Blends from the People's Republic of China: Final Scope Ruling on Unpatented R-421A; Affirmative Final Determination of Circumvention of the Antidumping Duty Order for Unpatented R-421A, 85 FR 34416 (June 4, 2020); and Hydrofluorocarbon Blends from the People's Republic of China: Affirmative Final Determination of Circumvention of the Antidumping Duty Order; Unfinished R-32/R-125 Blends, 85 FR 15428 (March 18, 2020).

Preliminary Determination of No Shipments

Commerce's practice is to conduct administrative reviews only on suspended entries of subject merchandise.¹⁵ Based on information Commerce received from Enforcement and Compliance's Customs and Liaison Unit,¹⁶ as well as information submitted by Sanmei's U.S. importer (Company A), we preliminarily determine that Sanmei had no shipments of the subject merchandise during the POR because there are no suspended entries during the POR.¹⁷ Likewise, based on the CBP Data and the No-Shipment Statements, we preliminarily determine that Huantai Dongyue, Shandong Dongyue, and Zhejiang Yonghe had no shipments of the subject merchandise during the POR.

¹⁵ See Honey from the People's Republic of China: Final Rescission of the New Shipper Review and Final Results of the Administrative Review; 2015-2016, 83 FR 1015 (January 9, 2018), and accompanying Issues and Decision Memorandum, at Comment 4.

¹⁶ See Memorandum, “U.S. Customs and Border Patrol Information,” dated June 24, 2022.

¹⁷ See Memorandum, “Business Proprietary Information (BPI) Related to the Preliminary Finding of No Shipments,” dated concurrently with this notice.

Consistent with Commerce's practice, we will not rescind the review with respect to Sanmei, Huantai Dongyue, Shandong Dongyue, and Zhejiang Yonghe, but, rather, will complete the review and issue appropriate liquidation instructions to CBP based on the final results.¹⁸

¹⁸ See Polyethylene Terephthalate Film, Sheet, and Strip from Taiwan: Preliminary Results of Antidumping Duty Administrative Review and Preliminary Determination of No Shipments; 2018-2019, 85 FR 74673 (November 23, 2020), unchanged in Polyethylene Terephthalate Film, Sheet, and Strip (PET Film) from Taiwan: Final Results of Antidumping Duty Administrative Review; 2018-2019, 86 FR 14311 (March 15, 2021).

China-Wide Entity

In accordance with Commerce's policy, the China-wide entity will not be under review unless a party specifically requests, or Commerce self-initiates, a review of the entity.⁴ Because no party requested a review of the China-wide entity in this review, the entity is not under review, and the entity's rate is not subject to change (i.e., 216.37 percent).¹⁹

¹⁹ See Order, 81 FR at 55438.

Aside from Sanmei, Huantai Dongyue, Shandong Dongyue, and Zhejiang Yonghe, which we preliminarily find made no shipments, Commerce considers all other companies for which a review was requested to be part of the China-wide entity because they did not demonstrate their separate rate eligibility.²⁰ Accordingly, for the preliminary results, we consider the following non-responsive parties, none of which submitted a separate rate application, to be part of the China-wide entity: Changshu 3F Zhonghao New Chemical Materials Co., Ltd.; Daikin Fluorochemicals (China) Co., Ltd.; Dongyang Weihua Refrigerants Co., Ltd.; Electrochemical Factory of Zhejiang Juhua Co., Ltd.; Fujian Qingliu Dongying Chemical Ind. Co., Ltd.; Hongkong Richmax Ltd.; Icool International (Hong Kong) Limited; Jiangsu Bluestar Green Technology Co., Ltd.; Jiangsu Meilan Chemical Co., Ltd.; Jiangsu Sanmei Chemicals Co., Ltd; Jinhua Binglong Chemical Technology Co., Ltd.; Jinhua Yonghe Fluorochemical Co., Ltd.; Liaocheng Fuer New Materials Technology Co., Ltd.; Linhai Limin Chemicals Co., Ltd.; Ninhua Group Co., Ltd.; Puremann, Inc.; Ruyuan Dongyangguang Fluorine Co., Ltd.; Shandong Huaan New Material Co., Ltd.; Shandong Xinlong Science Technology Co., Ltd.; Shanghai Aohong Chemical Co., Ltd.; Sinochem Environmental Protection Chemicals (Taicang) Co., Ltd.; Sinochem Lantian Fluoro Materials Co., Ltd.; T.T. International Co., Ltd.; Taizhou Huasheng New Refrigeration Material Co., Ltd.; Taizhou Qingsong Refrigerant New Material Co., Ltd.; Weitron International Refrigeration Equipment (Kunshan) Co., Ltd.; Weitron International Refrigeration Equipment Co., Ltd.; Zhejiang Fulai Refrigerant Co., Ltd.; Zhejiang Guomao Industrial Co., Ltd.; Zhejiang Lantian Environmental Protection Fluoro Material Co. Ltd.; Zhejiang Lishui Fuhua Chemical Co., Ltd.; Zhejiang Organic Fluor-Chemistry Plant; Zhejiang Juhua Co., Ltd.; Zhejiang Quhua Fluor-Chemistry Co., Ltd.; Zhejiang Quhua Juxin Fluorochemical Industry Co., Ltd.; Zhejiang Quzhou Juxin Fluorine Chemical Co., Ltd.; Zhejiang Quzhou Lianzhou Refrigerants Co., Ltd.; Zhejiang Sanmei Chemical Industry Co., Ltd.; Zhejiang Zhiyang Chemical Co., Ltd.; Zhejiang Zhonglan Refrigeration Technology Co., Ltd.; and Zibo Feiyuan Chemical Co., Ltd.

²⁰ See Initiation Notice, 86 FR at 55812 (“All firms listed below that wish to qualify for separate rate status in the administrative reviews involving {non-market economy} countries must complete, as appropriate, either a separate rate application or certification, as described below.”).

Disclosure and Public Comment

Normally, Commerce discloses the calculations used in its analysis to parties in a review within five days of the date of publication of the notice of preliminary results, in accordance with 19 CFR 351.224(b). However, in this case, there are no calculations to disclose.

Interested parties are invited to comment on the preliminary determination of no shipments in this review. Case briefs or other written comments may be submitted to Commerce no later than 30 days after the date of publication of this notice.²¹ Rebuttal briefs, limited to issues raised in case briefs, may be submitted no later than seven days after the deadline for case briefs.²² Pursuant to 19 CFR 351.309(c)(2) and (d)(2), parties who submit case briefs or rebuttal briefs in this proceeding are encouraged to submit with each argument: (1) a statement of the issue; (2) a brief summary of the argument; and (3) a table of authorities.²³ An electronically-filed document must be received successfully in its entirety via Enforcement and Compliance's Antidumping and Countervailing Duty Centralized Electronic Service System (ACCESS) by 5 p.m. eastern time on the established deadline. Note that Commerce has temporarily modified certain of its requirements for serving documents containing business proprietary information, until further notice.²⁴

²¹ See 19 CFR 351.309(c).

²² See Temporary Rule Modifying AD/CVD Service Requirements Due to COVID-19; Extension of Effective Period, 85 FR 41363 (July 10, 2020) (Temporary Rule).

²³ See 19 CFR 351.309(c)(2) and (d)(2).

²⁴ See Temporary Rule.

Pursuant to 19 CFR 351.310(c), interested parties who wish to request a hearing must submit a written request to the Assistant Secretary for Enforcement and Compliance, U.S. Department of Commerce, filed electronically via ACCESS within 30 days after the date of publication of this notice.²⁵ Hearing requests should contain: (1) the party's name, address, and telephone number; (2) the number of participants; and (3) a list of issues to be discussed. Issues raised in the hearing will be limited to issues raised in the briefs. If a request for a hearing is made, parties will be notified of the time and date for the hearing.²⁶

²⁵ See 19 CFR 351.310(c).

²⁶ See 19 CFR 351.310(d).

Commerce intends to issue the final results of this administrative review, including the results of its analysis of issues raised in any written briefs, not later than 120 days after the date of publication of this notice, unless otherwise extended.²⁷

²⁷ See section 751(a)(3)(A) of the Act.

Assessment

Upon issuance of the final results of the administrative review, Commerce will determine, and CBP shall assess, antidumping duties on all appropriate entries covered by this review.²⁸ For the companies which Commerce determined had no shipments of the subject merchandise during the POR, any suspended entries of subject merchandise that entered under any of these exporters' CBP case numbers during the POR will be liquidated at the China-wide rate.²⁹ In accordance with section 751(a)(2)(C) of the Act, the final results of this review shall be the basis for the assessment of antidumping duties on entries of merchandise covered by the final results of this review and for future deposits of estimated antidumping duties, where applicable.

²⁸ See 19 CFR 351.212(b)(1).

²⁹ See Non-Market Economy Antidumping Proceedings: Assessment of Antidumping Duties, 76 FR 65694 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by sections 751(a)(2)(C) of the Act: (1) for previously investigated or reviewed Chinese or non-Chinese exporters not listed above that received a separate rate in a prior segment of this proceeding, the cash deposit rate will continue to be the existing exporter-specific rate; (2) for all Chinese exporters of subject merchandise that have not been found to be entitled to a separate rate, the cash deposit rate will be that for the China-wide entity (i.e., 216.37 percent); and (3) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) of the Act and 19 CFR 351.213(d).

Dated: August 26, 2022.
Lisa W. Wang,
Assistant Secretary for Enforcement and Compliance.

[FR Doc. 2022-19061 Filed 9-1-22; 8:45 am]

BILLING CODE 3510-DS-P